OFFICE OF PERSONNEL MANAGEMENT

[Docket ID: OPM-2023-0024]

Privacy Act of 1974; System of Records

AGENCY: Office of Personnel Management.

ACTION: Notice of a modified system of records.

SUMMARY: In accordance with the Privacy Act of 1974, the Office of Personnel Management (OPM) proposes to modify an OPM system of records titled, “OPM/GOVT-1 General Personnel Records” System of Records. The records in this system of records are maintained by OPM and employing agencies in accordance with OPM regulations and instructions. OPM proposes to modify this system of records by revising Routine Uses “s” and “hh”.

DATES: Submit comments on or before September 18, 2023. The modified routine uses will be effective on September 21, 2023.

ADDRESSES: You may submit written comments by one of the following methods:

• Federal Rulemaking Portal: https://www.regulations.gov.

All submissions received must include the agency name and docket number for this Federal Register document. The general policy for comments and other submissions from members of the public is to make these submissions available for public viewing on the internet at https://www.regulations.gov as they are received without change, including any personal identifiers or contact information.

FOR FURTHER INFORMATION CONTACT: Marc Flaster, Senior Agency Official for Privacy (Acting), Office of Personnel Management at privacy@opm.gov.

SUPPLEMENTARY INFORMATION: In accordance with the Privacy Act of 1974, 5 U.S.C. 552a, the Office of Personnel Management (“OPM”), proposes to make certain modifications to the “OPM/GOVT-1 General Personnel Records” system of records pending a comprehensive review and update at a later date. Specifically, OPM proposes to revise Routine Use “s” to specify that OPM may disclose records from this system of records to other Federal entities for the purpose of conducting research and statistical analysis for government-wide evaluation and reporting about the Federal workforce. In its current form, Routine Use “s” only permits internal use of the records for such purposes.

Routine Use “s” currently reads as follows:

s. By the agency maintaining the records or by the OPM to locate individuals for personnel research or survey response, and in the production of summary descriptive statistics and analytical studies in support of the function for which the records are collected and maintained, or for related workforce studies. While published statistics and studies do not contain individual identifiers, in some instances, the selection of elements of data included in the study may be structured in such a way as to make the data individually identifiable by inference.

OPM proposes to revise Routine Use “s” to read as follows:

s. To disclose to another Federal agency, by the agency maintaining the records or by OPM, for research or analytical purposes, including to locate individuals for personnel research or survey response, to produce summary descriptive statistics, or to conduct analytical studies in support of the function for which the records are collected and maintained, or for related workforce studies; provided that the disclosure is made pursuant to a written agreement that clearly outlines the relevant authorities, limits the disclosure only to those records that are necessary for a clearly documented purpose, and limits the use of the records for that purpose.

OPM also proposes to revise Routine Use “hh” to clarify that the records in this system of records may be disclosed in the context of an appropriate computer matching program. The current language of this Routine Use does not track the definition of “matching program” in the Privacy Act and the revised language is intended to correct that and permit disclosure in the context of any approved matching program that meets the definition in the Act.

Routine Use “hh” currently reads as follows:

hh. To disclose relevant information with personal identifiers of Federal civilian employees whose records are contained in the EHRI to authorized Federal agencies and non-Federal entities for use in computer matching. The matches will be performed to help eliminate waste, fraud, and abuse in Governmental programs; to help identify individuals who are potentially in violation of civil or criminal law or regulation; and to collect debts and overpayments owed to Federal, State, or local governments and their components. The information disclosed may include, but is not limited to, the name, social security number, date of birth, sex, annualized salary rate, service computation date of basic active service, veteran's preference, retirement status, occupational series, health plan code, position occupied, work schedule (full time, part time, or intermittent), agency identifier, geographic location (duty station location), standard metropolitan service area, special program identifier, and submitting office number of Federal employees.

OPM proposed to revise Routine Use “hh” to read as follows:

hh. To other Federal agencies, such as the Social Security Administration, the Department of Education, and the Department of Health and Human Services, and to non-Federal entities, relevant information with personal identifiers of Federal civilian employees whose records are contained in the EHRI to authorized Federal agencies and non-Federal entities for use in a computer matching program, as defined in 5 U.S.C. 552a(a)(8), to help eliminate waste, fraud, and abuse in Governmental programs; to help identify individuals who are potentially in violation of civil or criminal law or regulation; to collect debts and overpayments owed to Federal, State, or local governments and their components; and to identify individuals as Federal civilian employees when relevant to their receiving a benefit from the matching partner.

In addition to revising the above-referenced Routine Uses, OPM also proposes to make certain administrative adjustments to the SORN to update the System Manager to reflect organizational changes at OPM and to update the description of the System Location for accuracy.

OPM has provided a report of this modified system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016. This modified system will be included in OPM's inventory of records systems.

Office of Personnel Management.
Kayyonne Marston,
Federal Register Liaison.

SYSTEM NAME AND NUMBER:

General Personnel Records, OPM/GOVT-1.

SECURITY CLASSIFICATION:

Unclassified.

SYSTEM LOCATION:

Records on current Federal employees are located within the employing agency. Records maintained in paper may also be located at OPM or with personnel officers, or at other designated offices of local installations of the department or agency that employs the individual. When agencies determine that duplicates of these records need to be located in a second office, e.g., an administrative office closer to where the employee actually works, such copies are covered by this system of records. Some agencies have employed the electronic Official Personnel Folder (eOPF) information technology system to store their records electronically. Although stored in eOPF, agencies are still responsible for the maintenance of their records. In addition, certain data elements from the eOPF are collected and maintained in OPM's Enterprise Human Resource Integration (EHRI) system.

Former Federal employees' paper Official Personnel Folders (OPFs) are located at the National Personnel Records Center, National Archives and Records Administration, in Valmeyer, Illinois. Former Federal employees' electronic Official Personnel Folders (eOPF) are located in the eOPF system at OPM.

Note 1—The records in this system are records of the OPM and must be provided to those OPM employees who have an official need or use for those records. Therefore, if an employing agency is asked by an OPM employee to access the records within this system, such a request must be honored.

SYSTEM MANAGER(S):

a. Executive Director, Human Capital Data Management and Modernization, U.S. Office of Personnel Management, 1900 E Street NW, Washington, DC 20415; Associate Director, Employee Services, U.S. Office of Personnel Management, 1900 E Street NW, Washington, DC 20415.

b. For current Federal employees, OPM has delegated to the employing agency the Privacy Act responsibilities concerning access, amendment, and disclosure of the records within this system notice.

* * * * *

ROUTINE USES OF RECORDS MAINTAINED IN THE SYSTEM, INCLUDING CATEGORIES OF USERS AND PURPOSES OF SUCH USES:

* * * * *

s. To disclose to another Federal agency, by the agency maintaining the records or by OPM, for research or analytical purposes, including to locate individuals for personnel research or survey response, to produce summary descriptive statistics, or to conduct analytical studies in support of the function for which the records are collected and maintained, or for related workforce studies; provided that the disclosure is made pursuant to a written agreement that clearly outlines the relevant authorities, limits the disclosure only to those records that are necessary for a clearly documented purpose, and limits the use of the records for that purpose.

* * * * *

hh. To other Federal agencies, such as the Social Security Administration, the Department of Education, and the Department of Health and Human Services, and to non-Federal entities, relevant information with personal identifiers of Federal civilian employees whose records are contained in the EHRI to authorized Federal agencies and non-Federal entities for use in a computer matching program, as defined in 5 U.S.C. 552a(a)(8), to help eliminate waste, fraud, and abuse in Governmental programs; to help identify individuals who are potentially in violation of civil or criminal law or regulation; to collect debts and overpayments owed to Federal, State, or local governments and their components; and to identify individuals as Federal civilian employees when relevant to their receiving a benefit from the matching partner.

* * * * *

HISTORY:

OPM/GOVT-1, “General Personnel Records”, 77 FR 73694 (December 11, 2012), 80 FR 74815 (November 30, 2015), 76 FR 32997 (June 7, 2011), 71 FR 35342 (June 19, 2006), 65 FR 24732 (April 27, 2000), and 61 FR 36919 (July 15, 1996).

[FR Doc. 2023-17651 Filed 8-16-23; 8:45 am]

BILLING CODE 6325-67-P